DEPARTMENT OF HEALTH AND HUMAN SERVICES

Centers for Disease Control and Prevention

Board of Scientific Counselors, National Center for Health Marketing (BSC, NCHM)

In accordance with section 10(a)(2) of the Federal Advisory Committee Act (Pub. L. 92-463), and pursuant to the requirements of 42 CFR 83.15(a), the Centers for Disease Control and Prevention (CDC), announces the following meeting of the aforementioned committee:

Times and Dates:

9 a.m.-5 p.m., February 25, 2010.

8:30 a.m.-1 p.m., February 26, 2010.

Place: CDC, 2400 Century Parkway, Building 2400, Room 1A (1023), Atlanta, Georgia 30345.

Status: Open to the public, limited only by the space available. The meeting room accommodates approximately 60 people. The toll free dial-in number is 1 (877) 617-5977 with a pass code of 3468113.

Purpose: The Secretary, Department of Health and Human Services (HHS), and, by delegation, the Director, CDC, are authorized under Section 301 (42 U.S.C. 241) and Section 311 (42 U.S.C. 243) of the Public Health Service Act (PHSA), as amended to: Develop and implement disease prevention and control, environmental health, and health promotion and health education activities designed to improve the health of the people of the United States. Under these and additional PHSA and other authorities, CDC acts by identifying and defining preventable health problems, maintaining active surveillance of diseases through epidemiologic and laboratory investigations and data collection, analysis, and distribution; conducting operational research aimed at developing and testing effective disease prevention, control, and health promotion programs; administering a national occupational safety and health program; controlling the introduction and spread of infectious diseases, and providing consultation and assistance to other nations and international agencies to assist in improving their disease prevention and control, environmental health, and health promotion activities. CDC carries out these functions through a number of National Centers, Institutes and Offices with expertise and responsibilities in specific areas.

Matters To Be Discussed: The agenda will include: A discussion of the recent organizational changes at CDC, specifically presentations on the vision, mission, goals and organizational structure of the new Office of Communications; discussions on program activities, including scientific programs, that will enable the board to provide recommendations and advice on the future course for health communications and marketing at CDC; and a discussion of focus areas and new ideas to implement and expand health marketing science at CDC.

Agenda items are subject to change as priorities dictate.

Contact Person for More Information: Dionne R. Mason, Committee Management Specialist, NCHM, CDC, 1600 Clifton Road, NE., Mail Stop E-21, Atlanta, Georgia 30333; Telephone: (404) 498-2314, Fax (404) 498-2221; E-mail: zsu0@cdc.gov. The deadline for notification of attendance is February 17, 2010.

The Director, Management Analysis and Services Office, has been delegated the authority to sign Federal Register Notices pertaining to announcements of meetings and other committee management activities, for both CDC and the Agency for Toxic Substances and Disease Registry.

Dated: February 1, 2010.
Elaine L. Baker,
Director, Management Analysis and Services Office, Centers for Disease Control and Prevention.

[FR Doc. 2010-2766 Filed 2-8-10; 8:45 am]

BILLING CODE 4163-18-P